DEPARTMENT OF JUSTICE

Notice of Lodging of Consent Decree

Notice is hereby given that a proposed Consent Decree between the State of California and the United States Section of the International Boundary and Water Commission (“USIBWC”) was lodged with the United States District Court for the Southern District of California on July 12, 2002. The proposed Consent Decree concerns alleged violations of section 402 of the Clean Water Act, 33 U.S.C. 1342, at the South Bay International Wastewater Treatment Plant, located at 2415 Dairy Mart Road, San Diego County, San Diego, California. The proposed Consent Decree would require the USIBWC to provide or contract for secondary treatment services for the Plant or to otherwise cease violations of certain effluent standards and limitations applicable to the Plant's discharges.

The United States Department of Justice will receive written comments relating to the proposed Consent Decree for a period of thirty (30) days from the date of publication of this notice. Comments should be addressed to S. Randall Humm, Trial Attorney, United States Department of Justice, Environmental Defense Section, PO Box 23986, Washington, DC 20026-3986, with copies provided to Mario Lewis, International Boundary and Water Commission, Office of the Staff Counsel, 4171 No. Mesa Street; Suite C-310, El Paso, TX 79902; and Carol A. Squire, Deputy Attorney General, Department of Justice, State of California, 110 West A Street, Suite 1100, PO Box 85266, San Diego, 92186-5266, and should reference California v. Ramirez, No. 01-CV-0270-BTM-JFS (S.D. Cal.); consolidated with Surfrider Foundation v. Ramirez, No. 99-CV-2441-BTM-JFS (S.D. Cal.).

The proposed Consent Decree may be examined at the Clerk's Office, United States District Court for the Southern District of California, 4290 Edward J. Schwartz Federal Building, 880 Front Street, San Diego, California.

Stephen Samuels,
Assistant Chief, Environmental Defense Section, Environment and Natural Resources Division, Department of Justice.

[FR Doc. 02-19388 Filed 7-31-02; 8:45 am]

BILLING CODE 4410-15-M